DEPARTMENT OF COMMERCE

International Trade Administration

[A-201-842]

Large Residential Washers From Mexico: Preliminary Results of the Antidumping Duty Administrative Review and Preliminary Determination of No Shipments; 2012-2014

AGENCY: Enforcement and Compliance, International Trade Administration, Department of Commerce.

SUMMARY: The Department of Commerce (the Department) is conducting an administrative review of the antidumping duty order on large residential washers from Mexico. The period of review (POR) is August 3, 2012, through January 31, 2014. This review covers two companies, Electrolux Home Products Corp. N.V. and Electrolux Home Products de Mexico, S.A. de C.V. (collectively, Electrolux) and Samsung Electronics Mexico S.A. de C.V. (Samsung). We preliminarily determine that Electrolux made sales of subject merchandise at less than normal value. In addition, we preliminarily find that no shipments of subject merchandise were made by Samsung during the POR. Interested parties are invited to comment on these preliminary results.

DATES: Effective Date: March 9, 2015.

FOR FURTHER INFORMATION CONTACT: Brian Smith or Brandon Custard, AD/CVD Operations, Office II, Enforcement and Compliance, International Trade Administration, U.S. Department of Commerce, 14th Street and Constitution Avenue NW., Washington, DC 20230; telephone: (202) 482-1766 or (202) 482-1823.

SUPPLEMENTARY INFORMATION:

Scope of the Order

The products covered by the order are all large residential washers and certain subassemblies thereof from Mexico. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.¹

¹ A full description of the scope of the order is contained in the memorandum to Paul Piquado, Assistant Secretary for Enforcement and Compliance, from Gary Taverman, Associate Deputy Assistant Secretary for Antidumping and Countervailing Duty Operations, “Large Residential Washers from Mexico: Decision Memorandum for the Preliminary Results of the Antidumping Duty Administrative Review; 2012-2014” (Preliminary Decision Memorandum), dated concurrently with and adopted by this notice. The HTSUS numbers are revised from the numbers previously stated in the scope. See Memorandum to the File entitled “Changes to the HTS Numbers to the ACE Case Reference Files for the Antidumping Duty Orders,” dated January 6, 2015.

Methodology

The Department conducted this review in accordance with section 751(a)(1)(B) and (2) of the Tariff Act of 1930, as amended (the Act). Constructed export price is calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS).² ACCESS is available to registered users at http://access.trade.gov and is available to all parties in the Central Records Unit, Room 7046 of the main Department of Commerce building. In addition, a complete version of the Preliminary Decision Memorandum can be accessed directly at http://enforcement.trade.gov/frn/. The signed Preliminary Decision Memorandum and the electronic version of the Preliminary Decision Memorandum are identical in content. A list of the topics discussed in the Preliminary Decision Memorandum is attached as an Appendix to this notice.

² On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Preliminary Determination of No Shipments

Based on our analysis of U.S. Customs and Border Protection (CBP) information and information provided by Samsung, we preliminarily determine that Samsung had no shipments of the subject merchandise, and, therefore, no reviewable transactions, during the POR. For a full discussion of this determination, see the Preliminary Decision Memorandum.

Preliminary Results of Review

As a result of this review, the Department preliminarily determines that the following weighted-average dumping margin exists for Electrolux for the period August 3, 2012, through January 31, 2014:

Producer/exporter | Weighted- average dumping margin (percent)
Electrolux Home Products Corp. NV/Electrolux Home Products de Mexico, S.A. de C.V | 4.48

Disclosure and Public Comment

The Department intends to disclose to interested parties the calculations performed in connection with these preliminary results within five days after the date of publication of this notice.³ Interested parties may submit case briefs within 30 days of the date of publication of these preliminary results.⁴ Rebuttal briefs, which must be limited to issues raised in the case briefs, may be filed no later than five days after the time limit for filing case briefs.⁵ Parties submitting arguments in this proceeding are requested to submit with each argument: (1) A statement of the issue; (2) a brief summary of the argument; and (3) a table of authorities.⁶

³ See 19 CFR 351.224(b).

⁴ See 19 CFR 351.309(c).

⁵ See 19 CFR 351.309(d); see also 19 CFR 351.303 (for general filing requirements).

⁶ See 19 CFR 351.309(c)(2) and (d)(2).

Pursuant to 19 CFR 351.310(c), any interested party may request a hearing within 30 days of publication of this notice. To request a hearing, or to participate if one is requested, parties must submit a written request to the Assistant Secretary for Enforcement and Compliance, U.S. Department of Commerce. Hearing requests should contain: (1) The party's name, address, and telephone number; (2) the number of participants; and (3) a list of issues to be discussed. If a hearing is requested, the Department will notify interested parties of the hearing schedule. Issues raised in the hearing will be limited to those raised in the case and rebuttal briefs. All documents must be filed electronically using ACCESS.

The Department intends to issue the final results of this administrative review, which will include the results of its analysis of issues raised in any such comments, within 120 days of publication of these preliminary results, unless the deadline is extended.⁷

⁷ See section 751(a)(3)(A) of the Act and 19 CFR 351.213(h).

Assessment Rate

Upon issuance of the final results, the Department shall determine, and CBP shall assess, antidumping duties on all appropriate entries, in accordance with 19 CFR 351.212. The Department intends to issue assessment instructions to CBP 41 days after the date of publication of the final results of this review.

Electrolux reported the names of the importers of record and the entered value for all of its sales to the United States during the POR. If Electrolux's weighted-average dumping margin is above de minimis (i.e., 0.50 percent), we will calculate importer-specific ad valorem duty assessment rates based on the ratio of the total amount of dumping calculated for the importer's examined sales to the total entered value of those same sales in accordance with 19 CFR 351.212(b)(1).⁸ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties.

⁸ In these preliminary results, the Department applied the assessment rate calculation method in Antidumping Proceedings: Calculation of the Weighted-Average Dumping Margin and Assessment Rate in Certain Antidumping Proceedings: Final Modification, 77 FR 8101 (February 14, 2012).

The Department clarified its “automatic assessment” regulation on May 6, 2003.⁹ If applicable, this clarification will apply to entries of subject merchandise during the POR produced by Electrolux, for which it did not know that its merchandise was destined for the United States. Furthermore, this clarification applies to all POR entries entered under the case number for Samsung if we continue to make a final determination of no shipments of subject merchandise because it certified that it made no POR shipments of subject merchandise for which it had knowledge of U.S. destination. In such instances, we will instruct CBP to liquidate these entries at the all-others rate established in the less-than fair-value (LTFV) investigation, 36.52 percent,¹⁰ if there is no rate for the intermediary involved in the transaction. See Assessment Policy Notice for a full discussion of this clarification.

⁹ See Antidumping and Countervailing Duty Proceedings: Assessment of Antidumping Duties, 68 FR 23954 (May 6, 2003) (Assessment Policy Notice).

¹⁰ See Notice of Final Determination of Sales at Less Than Fair Value: Large Residential Washers from Mexico, 77 FR 76288, 76291 (December 27, 2012).

Cash Deposit Requirements

The following deposit requirements will remain effective upon publication of the notice of final results of administrative review for all shipments of the subject merchandise entered, or withdrawn from warehouse, for consumption on or after the publication as provided in section 751(a)(1) of the Act: (1) The cash deposit rate for Electrolux will be that rate established in the final results of this review; (2) for previously investigated companies not covered in this review, the cash deposit rate will continue to be the rate published for the LTFV investigation; (3) if the exporter is not a firm covered in this review, or the LTFV investigation but the manufacturer is, the cash deposit rate will be the rate established for the most recent period for the manufacturer of the subject merchandise; (4) if neither the exporter nor the manufacturer is a firm covered in this review or the LTFV investigation, the cash deposit rate will continue to be the all-others rate established in the LTFV investigation, which is 36.52 percent.¹¹ These cash deposit requirements, when imposed, shall remain in effect until further notice.

¹¹ See Large Residential Washers From Mexico and the Republic of Korea: Antidumping Duty Orders, 78 FR 11148 (February 15, 2013).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these preliminary results of administrative review in accordance with sections 751(a)(1) and 777(i)(1) of the Act and 19 CFR 351.221(b)(4).

Dated: March 2, 2015.
Paul Piquado
Assistant Secretary for Enforcement and Compliance.

Appendix

List of Topics Discussed in Preliminary Decision Memorandum

I. Summary

II. Background

III. Scope of the Order

IV. Discussion of Methodology

A. Preliminary Determination of No Shipments

B. Comparisons to Normal Value

C. Product Comparisons

D. Constructed Export Price

E. Normal Value

F. Currency Conversion

V. Recommendation

[FR Doc. 2015-05472 Filed 3-6-15; 8:45 am]

BILLING CODE 3510-DS-P